DEPARTMENT OF HEALTH AND HUMAN SERVICES

National Institutes of Health

Submission for OMB Review; Comment Request; Evaluation of the NCI State of the Science Web Site

SUMMARY: Under the provisions of section 3507(a)(1)(D) of the Paperwork Reduction Act of 1995, the National Cancer Institute (NCI), the National Institutes of Health (NIH) has submitted to the Office of Management and Budget (OMB) a request to review and approve the information collection listed below. This proposed information collection was previously published in the Federal Register on June 12, 2001 pages 31678 and 31679, Volume 66, No. 113 and allowed 60 days for public comment. No public comments were received. The purpose of this notice is to allow an additional 30 days fro public comment. The National Institutes of Health may not conduct or sponsor, and the respondent is not required to respond to, an information collection that has been extended, revised, or implemented on or after October 1, 1995, unless it displays a currently valid OMB control number.

Proposed Collection

Title: Web-Survey of the State of the Science Web Site.

Type of Information Collection Request: New.

Need and Use of Information Collection: The NCI seeks to evaluate its State-of-the-Science (SOTS) meetings project that offers audio-visual presentations of SOTS meetings via the Internet. The SOTS disseminates, with expediency and immediacy, the most recent oncology research results to a potentially vast audience of researchers. The proposed data collection will pro6vide feedback to NCI on the value of the Web site to those who NCI deem as the Web site's target population (i.e., clinical oncology researchers unable to attend SOTs meetings in person because of cost or time limitations). The first tier of respondents will consist of researchers who have attended any one of the three most recent State of the Science meetings. The tier-one survey participants will be asked to provide the names, emails, and any other contact information for five colleagues who are clinical research oncologists. The oncologists will be asked only once to provide the names and contact information for colleagues. The second tier of respondents will consist of the clinical oncology researchers nominated by the first tier respondents. It is the second tier respondents who will be asked to go to the Web site and complete the Web survey. They are asked to do this only once. Other tier two respondents will be oncology fellows whose current and full contact information is available in a national register of oncology fellows, Reports generated by the study will allow NCI to determine the success of the SOTS Web site (in terms of clarity of content, ease of navigation, and usefulness and information), and indirectly, the potential wider use and applications of Internet-based programs to improve the overall cancer clinical trails systems at NCI.

Frequency of Response: One time.

Affected Public: Individuals, researchers.

Type of respondents | Estimated number of respondents | Estimated number of responses per respondent | Average burden hours per response | Estimated total annual burden hours requested
Tier One Clinical Oncology Researchers | 220 | 1 | 0.0835 | 18.37
Tier Two Clinical Oncology Researchers | 400 | 1 | 0.75 | 300
Total |  |  |  | 318.37

There are no Capital Costs, Operating Costs and/or Maintenance Costs to report.

Request for Comments

Written comments and/or suggestions from the public and affected agencies should address one or more of the following points: (1) Whether the proposed collection of information is necessary for the proper performance of the function of the agency, including whether the information will have practical utility; (2) the accuracy of the agency's estimate of the burden of the proposed collection of information, including the validity of the methodology and assumptions used; (3) the quality, utility, and clarity of the information to be collected; and (4) ways to minimize the burden of the collection of information on those who are to responded, including the use of appropriate automated, electronic, mechanical, or other technological collection techniques or other forms of information technology.

Direct Comments to OMB

Written comments and/or suggestions regarding the item(s) contained in this notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact: Bryce Reeve, Ph.D., National Cancer Institute, Executive Plaza North, Room 4026, 6130 Executive Boulevard, Rockville, MD 20852, non-toll free telephone (301) 594-6574, or email: reeveb@mail.nin.gov, or br117c@nih.gov

Comments Due Date

Comments regarding this information collection are best assured of having their full effect if received within 30 days of the date of this publication.

Dated: May 7, 2002.
Reesa Nichols,
OMB Clearance Liaison.

[FR Doc. 02-11964 Filed 5-13-02; 8:45 am]

BILLING CODE 4140-01-M